DEPARTMENT OF ENERGY

Federal Energy Regulatory Commission

Notice of Settlement Agreement and Soliciting Comments

September 19, 2000.

Take notice that the following settlement agreement has been filed with the Commission and is available for public inspection:

a. Type: Settlement Offer on New License Application.

b. Project No.: 2016-044.

Project Name: Cowlitz River.

Applicant: City of Tacoma.

c. Date Settlement Agreement Filed: September 11, 2000.

d. Location: On the Cowlitz River, in Lewis County, Washington. About 5 acres are included within the Gifford Pinchot National Forest and about 59 acres are on lands owned by the Bureau of Land Management.

e. Filed Pursuant to: Rule 602 of the Commission's Rules of Practice and Procedure, 18 CFR 385.602.

f. Applicant's Contact: Toby Freeman, Tacoma Power, 3628 South 35th Street, Tacoma, WA 98411; (253) 502-8862.

g. FERC Contact: David Turner (202) 219-2844, Email: david.turner@ferc.fed.us.

h. Deadline Dates: Comments due: October 18, 2000; reply comments due: November 2, 2000.

i. All documents (original and eight copies) should be filed with: David P. Boergers, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

j. A Settlement Agreement was filed with the Commission on September 11, 2000. The agreement is the final, executed Cowlitz River Hydroelectric Project Settlement Agreement for the relicensing of Project No. 2016. The purpose of the Settlement is to resolve among the signatory parties all issues associated with issuance of a new license for the project regarding fish passage, fish production, fish habitat, water quality, instream flows, wildlife, recreation, and cultural and historic resources. Comments and reply comments on the Offer of Settlement are due on the dates listed above. Interested parties that have already filed comments on the settlement do not need to file their comments again for them to be considered by the Commission.

k. Copies of the offer of settlement are available for inspection and reproduction at the Commission's Public Reference Room, located at 888 First Street, NE., Room 2A, Washington, DC 20426, or by calling (202) 208-1371. This filing may be viewed on http://www.ferc.fed.us/online/rims.htm (call 202-208-2222 for assistance) or at the address listed in item f above.

David P. Boergers,
Secretary.

[FR Doc. 00-24514 Filed 9-22-00; 8:45 am]

BILLING CODE 6717-01-M